DEPARTMENT OF COMMERCE

National Institute of Standards and Technology

Proposed Information Collection; Comment Request; U.S. Measurement System Biophotonics Survey

ACTION: Notice.

SUMMARY: The Department of Commerce (DOC), as part of its continuing effort to reduce paperwork and respondent burden, invites the general public and other Federal agencies to comment on the continuing and proposed information collection, as required by the Paperwork Reduction Act of 1995, Public Law 104-13 (44 U.S.C. 3506(c)(2)(A)).

DATES: Written comments must be submitted on or before September 19, 2005.

ADDRESSES: Direct all written comments to Diana Hynek, Departmental Forms Clearance Officer, Department of Commerce, Room 6625, 14th and Constitution Avenue, NW., Washington, DC 20230 (or via the Internet at dHynek@doc.gov).

FOR FURTHER INFORMATION CONTACT: Requests for additional information should be directed to the attention of Dr. Marla Dowell, Mailcode 815.01, 325 Broadway, Boulder, CO 80305, Phone 303-497-7455 or via the Internet at mdowell@boulder.nist.gov or Dr. Grady White, 100 Bureau Drive, Mailstop 8520, Gaithersburg, MD 20899, Phone 301-975-5752, or via the Internet at grady.white@nist.gov.

SUPPLEMENTARY INFORMATION:

I. Abstract

In order to maintain the current rapid advance of biophotonics in the U.S. and to enhance our competitiveness worldwide, key measurement tools must be in place. The right measurement capabilities will improve both manufacturing efficiency and quality, and promote acceptance of biophotonics-based instruments and technologies through improved interoperability. As a part of a wide-reaching effort to improve the U.S. technology base, the National Institute of Standards and Technology announces the road-mapping workshop “Biophotonic Tools for Cell and Tissue Diagnostics”. This meeting will focus on diagnostic techniques involving the interaction between biological systems and photons. Through invited presentations by industry representatives, panel discussion, and the results of the survey given to workshop participants, the near- and far-term measurement needs will be evaluated. As a result of this workshop, a road-mapping document will be prepared on the measurement tools needed for biophotonic cell and tissue diagnostics. This will become a part of the larger road-mapping effort to be presented to the Nation as an assessment of the U.S. Measurement System. The information will be used to highlight measurement needs to the community and to facilitate solutions among key stakeholders in industry, government, and academia.

II. Method of collection

Information will be gathered in paper form from workshop participants.

III. Data

OMB Number: None.

Form Numbers: None.

Type of Review: Regular submission.

Affected Public: Businesses or other for-profit organizations.

Estimated Number of Respondents: 60.

Estimated Time Per Response: 10 minutes.

Estimated Total Annual Respondent Burden Hours: 10.

Estimated Total Annual Respondent Cost Burden: $0.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: July 15, 2005.
Gwellnar Banks,
Management Analyst, Office of the Chief Information Officer.

[FR Doc. 05-14327 Filed 7-20-05; 8:45 am]

BILLING CODE 3510-13-P